DEPARTMENT OF HOMELAND SECURITY

Federal Emergency Management Agency

[Docket ID FEMA-2025-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table in the SUPPLEMENTARY INFORMATION section.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65. The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Nicholas A. Shufro,
Assistant Administrator (Acting) for Risk Management, Federal Emergency Management Agency, Department of Homeland Security.

State and county | Location and case No. | Chief executive officer of community | Community map repository | Date of modification | Community No.
Alabama: Limestone (FEMA Docket No.: B-2467) | City of Madison (24-04-6459X). | The Honorable Paul Finley, Mayor, City of Madison, 100 Hughes Road, Madison, AL 35758. | City Hall, 100 Hughes Road, Madison, AL 35758. | Jan. 9, 2025 | 010308
Arizona: Mojave (FEMA Docket No.: B-2460) | City of Kingman (24-09-0317P). | The Honorable Ken Watkins, Mayor, City of Kingman, 310 North 4th Street, Kingman, AZ 86401. | Mohave County Flood Control District, 3250 East Kino Avenue, Kingman, AZ 86409. | Dec. 5, 2024 | 040060
Colorado:
Ebert (FEMA Docket No.: B-2460) | Town of Elizabeth (23-08-0679P). | The Honorable Tammy Payne, Mayor, Town of Elizabeth, P.O. Box 159, Elizabeth, CO 80107. | Town Hall, 321 South Banner Street, Elizabeth, CO 80107. | Dec. 6, 2024 | 080056
Ebert (FEMA Docket No.: B-2460) | Unincorporated areas of Elbert County (23-08-0679P). | Chris Richardson, Chair, Elbert County Board of Commissioners, P.O. Box 7, Kiowa, CO 80117. | Elbert County Government, 215 Comanche Street Kiowa, CO 80117. | Dec. 6, 2024 | 080055
Jefferson, (FEMA Docket No.: B-2454) | City of Lakewood (24-08-0107P). | The Honorable Wendi Strom, Mayor, City of Lakewood, 480 South Allison Parkway, Lakewood, CO 80226. | Public Works and Engineering Department, 480 South Allison Parkway, Lakewood, CO 80226. | Nov. 22, 2024 | 085075
Connecticut: Fairfield (FEMA Docket No.: B-2460 | Town of Stratford (24-01-0076P). | The Honorable Laura R. Hoydick, Mayor, Town of Stratford, 2725 Main Street, Stratford, CT 06615. | Building Department 2725 Main Street Stratford, CT 06615. | Nov. 25, 2024 | 090016
Florida:
Hillsborough (FEMA Docket No.: B-2454) | City of Tampa (23-04-5115P). | The Honorable Jane Castor, Mayor, City of Tampa, 306 East Jackson Street, Tampa, FL 33602. | City Hall, 306 East Jackson Street, Tampa, FL 33602. | Nov. 25, 2024 | 120114
Monroe (FEMA Docket No.: B-2460) | Unincorporated areas of Monroe County (24-04-3773P). | The Honorable Holly Merrill Raschein, Mayor, Monroe County Board of Commissioners, 102050 Overseas Highway, Suite 234, Key Largo, FL 33037. | Monroe County Building Department, 2798 Overseas Highway, Suite 300, Marathon FL 33050. | Dec. 6, 2024 | 125129
Nassau (FEMA Docket No.: B-2460) | Town of Callahan (23-04-2277P). | The Honorable Randy Knagge, Mayor, Town of Callahan, 542300 U.S. Highway 1, Callahan, FL 32011. | Town Hall, 542300 U.S. Highway 1, Callahan, FL 32011. | Dec. 12, 2024 | 120171
Nassau (FEMA Docket No.: B-2460) | Unincorporated areas of Nassau County (23-04-2277P). | Taco Pope, Nassau County Manager, 96135 Nassau Place, Suite 1, Yulee, FL 32097. | Nassau County Building Department, 96161 Nassau Place Yulee, FL 32097. | Dec. 12, 2024 | 120170
Nassau (FEMA Docket No.: B-2460) | Unincorporated areas of Nassau County (24-04-1544P). | Taco Pope, Nassau County Manager, 96135 Nassau Place, Suite 1, Yulee, FL 32097. | Nassau County Building Department, 96161 Nassau Place Yulee, FL 32097. | Dec. 5, 2024 | 120170
Palm Beach (FEMA Docket No.: B-2462) | City of Delray Beach (23-04-6363P). | Terrence Moore, Manager, City of Delray Beach, 100 Northwest 1st Avenue, Delray Beach, FL 33444. | Building Inspections Department, 100 Northwest 1st Avenue, Delray Beach, FL 33444. | Dec. 9, 2024 | 125102
Volusia (FEMA Docket No.: B-2462) | City of Daytona Beach (24-04-2270P). | The Honorable Derrick Henry, Mayor, City of Daytona Beach, 301 South Ridgewood Avenue, Daytona Beach, FL 32114. | City Hall, 301 South Ridgewood Avenue, Daytona Beach, FL 32114. | Dec. 13, 2024 | 125099
Polk (FEMA Docket No.: B-2460) | Unincorporated areas of Polk County (24-04-1992P). | Bill Beasley, Polk County Manager, 330 West Church Street, Bartow, FL 33830. | Polk County Land Development Division, 330 West Church Street, Bartow, FL 33830. | Dec. 5, 2024 | 120261
Illinois:
Kane (FEMA Docket No.: B-2460) | Unincorporated areas of Kane County (24-05-0491P). | Corinne Pierog, Chair, Kane County Board, 719 South Batavia Avenue, Building A Geneva, IL 60134. | Kane County Water Resources Department, 719 South Batavia Avenue, Building A, Geneva, IL 60134. | Nov. 29, 2024 | 170896
Macon (FEMA Docket No.: B-2460) | City of Decatur (24-05-1373P). | The Honorable Julie Moore Wolfe, Mayor, City of Decatur, 1 Gary K. Anderson Plaza, Decatur, IL 62523. | City Hall, 1 Gary K. Anderson Plaza, Decatur, IL 62523. | Nov. 29, 2024 | 170429
Will (FEMA Docket No.: B-2460) | Village of New Lenox (24-05-0965P). | The Honorable Timothy Baldermann, Mayor, Village of New Lenox, 1 Veterans Parkway, New Lenox, IL 60451. | Village Hall, 1 Veterans Parkway New Lenox, IL 60451. | Dec. 6, 2024 | 170706
Iowa: Black Hawk (FEMA Docket No.: B-2462) | City of Waterloo (22-07-1024P). | The Honorable Quentin Hart, Mayor, City of Waterloo, 715 Mulberry Street, Waterloo, IA 50703. | City Hall, 715 Mulberry Street, Waterloo, IA 50703. | Dec. 13, 2024 | 190025
Michigan:
Kalamazoo (FEMA Docket No.: B-2462) | City of Kalamazoo (24-05-1071P). | The Honorable David Anderson, Mayor, City of Kalamazoo, 241 West South Street, Kalamazoo, MI 49007. | City Hall, 241 West South Street, Kalamazoo, MI 49007. | Dec. 16, 2024 | 260315
Oakland (FEMA Docket No.: B-2462) | City of Rochester Hills (24-05-0583P). | The Honorable Bryan Barnett, Mayor, City of Rochester Hills, 1000 Rochester Hills Drive, Rochester Hills, MI 48309. | City Hall, 1000 Rochester Hills Drive, Rochester Hills, MI 48309. | Dec. 9, 2024 | 260471
Minnesota:
Anoka (FEMA Docket No.: B-2460) | City of Centerville (23-05-1374P). | The Honorable D. Love, Mayor, City of Centerville, 1880 Main Street, Centerville, MN 55038. | City Hall, 1880 Main Street Centerville, MN 55038. | Dec. 9, 2024 | 270008
Anoka (FEMA Docket No.: B-2460) | City of Lino Lakes (23-05-1374P). | The Honorable Rob Rafferty, Mayor, City of Lino Lakes, 600 Town Center Parkway, Lino Lakes, MN 55014. | City Hall, 600 Town Center Parkway, Lino Lakes, MN 55014. | Dec. 9, 2024 | 270015
Cottonwood (FEMA Docket No.: B-2462) | City of Windom (23-05-2934P). | The Honorable Dominic Jones, Mayor, City of Windom, P.O. Box 38, Windom, MN 56101. | City Hall, 444 9th Street, Windom, MN 56101. | Dec. 12, 2024 | 270090
Cottonwood (FEMA Docket No.: B-2462) | Unincorporated areas of Cottonwood County (23-05-2934P). | Kelly Thongvivong, Cottonwood County Coordinator, 28606 County Road 1, Comfrey, MN 56019. | Cottonwood County Environmental Department, 339 9th Street, Windom, MN 56101. | Dec. 12, 2024 | 270622
Mississippi: Hancock (FEMA Docket No.: B-2460) | City of Bay St. Louis (23-04-5378P). | The Honorable Mike Favre, Mayor, City of Bay St. Louis, 688 Highway 90, Bay St. Louis, MS 39520. | Chiniche Engineering and Surveying, 407 Highway 90, Bay St. Louis, MS 39520. | Dec. 6, 2024 | 285251
New Jersey:
Bergen (FEMA Docket No.: B-2462) | Borough of Ho-Ho-Kus (23-02-0548P). | The Honorable Thomas Randall, Mayor, Borough of Ho-Ho-Kus, 333 Warren Avenue, Ho-Ho-Kus, NJ 07423. | Borough Hall, 333 Warren Avenue, Ho-Ho-Kus, NJ 07423. | Dec. 9, 2024 | 340044
Bergen (FEMA Docket No.: B-2462) | Village of Ridgewood (23-02-0548P). | The Honorable Paul Vagianos, Mayor, Village of Ridgewood, 131 North Maple Avenue, Ridgewood, NJ 07450. | Village Hall, 131 North Maple Avenue, Ridgewood, NJ 07450. | Dec. 9, 2024 | 340067
New Mexico: Bernalillo (FEMA Docket No.: B-2460) | City of Albuquerque (24-06-0613P). | The Honorable Tim Keller, Mayor, City of Albuquerque, 1 Civic Plaza Northwest, Albuquerque, NM 87102. | Planning Department 600 2nd Street Northwest, Albuquerque, NM 87102. | Dec. 5, 2024 | 350002
North Carolina: Cabarrus (FEMA Docket No.: B-2467) | Town of Harrisburg (22-04-4548P). | The Honorable Jennifer Teague, Mayor, Town of Harrisburg, P.O. Box 100 Harrisburg, NC 28075. | Town Hall, 4100 Main Street, Suite 101, Harrisburg, NC 28075. | Jan. 3, 2025 | 370038
Texas:
Bexar (FEMA Docket No.: B-2460) | City of San Antonio (24-06-0474P). | The Honorable Ron Nirenberg, Mayor, City of San Antonio, P.O. Box 839966, San Antonio, TX 78283. | Public Works Department,, Storm Water Division 1901 South Alamo Street, 2nd Floor, San Antonio, TX 78204. | Nov. 25, 2024 | 480045
Collin (FEMA Docket No.: B-2460) | Unincorporated areas of Collin County (24-06-0873P). | The Honorable Chris Hill, Collin County Judge, 2300 Bloomdale Road, McKinney, TX 75071. | Collin County Juvenile Justice Alternative Education Program Building, 4690 Community Avenue, McKinney, TX 75071. | Dec. 2, 2024 | 480130
Denton (FEMA Docket No.: B-2460) | City of Fort Worth (23-06-1526P). | The Honorable Mattie Parker, Mayor, City of Fort Worth, 200 Texas Street, Fort Worth, TX 76102. | Department of Transportation and Public Works, Engineering Vault and Map Repository, 200 Texas Street, Fort Worth, TX 76102. | Dec. 5, 2024 | 480596
Denton (FEMA Docket No.: B-2460) | Unincorporated areas of Denton County (23-06-1526P). | The Honorable Andy Eads, Denton County Judge, 1 Courthouse Drive, Suite 3100, Denton, TX 76208. | Denton County Development Services Department, 3900 Morse Street Denton, TX 76208. | Dec. 5, 2024 | 480774
Hidalgo (FEMA Docket No.: B-2462) | City of Edinburg (23-06-2507P). | The Honorable Ramiro Garza Jr., Mayor, City of Edinburg, 415 West University Drive, Edinburg, TX 78539. | Engineering Department, 415 West University Drive, Edinburg, TX 78539. | Dec. 9, 2024 | 480338
Tarrant (FEMA Docket No.: B-2460) | City of Fort Worth (24-06-0569P). | The Honorable Mattie Parker, Mayor, City of Fort Worth, 200 Texas Street, Fort Worth, TX 76102. | Department of Transportation and Public Works, Engineering Vault and Map Repository, 200 Texas Street, Fort Worth, TX 76102. | Nov. 29, 2024 | 480596
Tarrant (FEMA Docket No.: B-2460) | Unincorporated areas of Tarrant County (24-06-0569P). | The Honorable Tim O'Hare, Tarrant County Judge, 100 East Weatherford Street, Suite 501, Fort Worth, TX 76196. | Tarrant County Transportation Department Engineering Section, 100 East Weatherford Street, Fort Worth, TX 76196. | Nov. 29, 2024 | 480582
Travis (FEMA Docket No.: B-2460) | City of Mustang Ridge (24-06-0742P). | The Honorable David Bunn, Mayor, City of Mustang Ridge, 12800 U.S. Highway 183 South, Buda, TX 78610. | City Hall, 12800 U.S. Highway 183 South, Mustang Ridge, TX 78610. | Dec. 9, 2024 | 481687
Virginia:
Fairfax (FEMA Docket No.: B-2460) | Unincorporated areas of Fairfax County (24-03-0112P). | Bryan Hill, Fairfax County Executive, 12000 Government Center Parkway, Fairfax, VA 22035. | Public Works and Environmental Services, Department, 12000 Government Center Parkway, Suite 449, Fairfax, VA 22035. | Nov. 29, 2024 | 515525
Independent City (FEMA Docket No.: B-2460) | City of Suffolk (24-03-0330P). | The Honorable Michael D. Duman, Mayor, City of Suffolk, 442 West Washington Street, Suffolk, VA 23434. | Department of Planning and Community Development, 442 West Washington Street, Suffolk, VA 23434. | Dec. 5, 2024 | 510156

[FR Doc. 2025-00241 Filed 1-7-25; 8:45 am]

BILLING CODE 9110-12-P